DEPARTMENT OF COMMERCE

International Trade Administration

[A-201-817]

Oil Country Tubular Goods from Mexico: Amended Final Results of Antidumping Duty Administrative Review

AGENCY: Import Administration, International Trade Administration, Department of Commerce.

SUMMARY: On January 16, 2007, a Bi-National Panel (“Panel”) constituted under the North American Free Trade Agreement (“NAFTA”) affirmed the U.S. Department of Commerce's (“the Department's”) redetermination on remand of the final results of the fourth antidumping duty administrative review on oil country tubular goods from Mexico. See In the Matter of: Oil Country Tubular Goods from Mexico; Final Results of Antidumping Duty Review and Determination Not to Revoke, USA-MEX-2001-1904-05. The Department is now issuing these amended final results for this fourth administrative review to reflect the Panel's decision.

EFFECTIVE DATE: April 6, 2007.

FOR FURTHER INFORMATION CONTACT: John Drury or Angelica Mendoza, AD/CVD Operations, Office 7, Import Administration, U.S. Department of Commerce, 14 th Street and Constitution Avenue, NW, Washington, DC 20230; telephone: (202) 482-0195 or (202) 482-3019, respectively.

SUPPLEMENTARY INFORMATION:

Background

On March 21, 2001, the Department published the final results of the antidumping duty administrative review on oil country tubular goods (“OCTG”) for the period August 1, 1998 to July 31, 1999. See Oil Country Tubular Goods from Mexico: Final Results of Antidumping Review and Determination Not To Revoke in Part, 66 FR 15832 (“Final Results”) and accompanying Issues and Decision Memorandum (“Decision Memo”). The Department reviewed sales to the United States by Hylsa S.A. de C.V. (“Hylsa”) and Tubos de Aceros de Mexico, S.A. (“TAMSA”), both Mexican producers of OCTG. In the fourth administrative review, both TAMSA and Hylsa requested revocation from the order in accordance with 19 CFR § 351.222(e)(1). The Department declined to revoke the order in part with respect to TAMSA, as it determined that TAMSA “did not sell the subject merchandise in the United States in commercial quantities in each of the three years cited by TAMSA to support its request for revocation.” See Decision Memo at page 10. The Department declined to revoke the order in part with respect to Hylsa due to the finding of a dumping margin in the Final Results. Id. at 23.

Subsequent to the completion of the fourth administrative review, both Hylsa and TAMSA challenged the Department's findings and requested that a Bi-National Panel review the final determination. A public hearing was held on July 20, 2005, in Washington, D.C., at which oral arguments were presented by the parties. The Panel issued a Decision of the Panel on January 27, 2006, upholding the Department's determinations with respect to TAMSA, but remanding the review to the Department with respect to Hylsa (i.e., to recalculate Hylsa's packing cost and cost of production (“COP”) on a product-specific basis). See In the Matter of: Oil Country Tubular Goods from Mexico; Final Results of Antidumping Duty Administrative Review and Determination Not to Revoke, USA-MEX-01-1904-05 (January 27, 2006) (“First Decision”).

In accordance with the First Decision, the Department filed its remand results on April 27, 2006. Based on the instructions of the Panel, the Department recalculated Hylsa's packing and cost of production by product costs and calculated a new antidumping duty margin of zero for Hylsa. The Department then conducted a revocation analysis, but found that Hylsa did not ship in commercial quantities to the U.S. market during the time period under consideration and found that dumping by Hylsa in the ninth administrative review was relevant to the determination of whether the antidumping duty order was otherwise necessary to offset dumping. Based on these factors, the Department declined to revoke the order. See Redetermination on Remand, Oil Country Tubular Goods from Mexico: Fourth Administrative Review, April 27, 2006.

On August 11, 2006, the Panel again remanded the decision to the Department for further consideration. See In the Matter of: Oil Country Tubular Goods from Mexico; Final Results of Antidumping Duty Administrative Review and Determination Not to Revoke, USA-MEX-01-1904-05 (August 11, 2006) (“Second Decision”). The Panel rejected the Department's reliance on the results of the ninth administrative review and also directed the Department to reexamine its revocation analysis “in light of the issues raised by the Panel.” Id. at 21. In accordance with the Second Decision, the Department reexamined Hylsa's request for revocation under 19 CFR § 351.222(e)(1) and determined that Hylsa had not made sales in commercial quantities for the three review periods under analysis. See Redetermination on Remand, Oil Country Tubular Goods from Mexico: Fourth Administrative Review, October 5, 2006 at 13-16.

On January 16, 2007, the Panel affirmed the Department's second remand redetermination. See In the Matter of: Oil Country Tubular Goods from Mexico; Final Results of Antidumping Duty Administrative Review and Determination Not to Revoke, USA-MEX-01-1904-05 (January 16, 2007). The Panel issued its Notice of Final Panel Action on February 2, 2007. On March 14, 2007, the NAFTA Secretariat published a notice of completion of the panel review. See North American Free-Trade Agreement, Article 1904 NAFTA Panel Reviews; Notice of Completion of Panel Review, 72 FR 11847 (March 14, 2007). The Department also published a notice of the NAFTA decision not in harmony with the final results of the fourth administrative review. See Oil Country Tubular Goods from Mexico: Notice of NAFTA Panel Decision Not In Harmony With Final Results of Administrative Review, 72 FR 12761 (March 19, 2007).

Amendment to Final Results

We are now amending the final results of this administrative review to reflect the final decision of the Panel. The changes to our calculations with respect to Hylsa resulted in a change in the weighted-average margin from 0.79 percent to zero percent for the period of review. The Department will instruct U.S. Customs and Border Protection to liquidate entries of OCTG from Mexico produced by TAMSA and Hylsa at the assessment rates the Department calculated for these amended final results of review.

Assessment

The Department intends to issue assessment instructions to U.S. Customs and Border Protection 41 days after the date of publication of this decision. See section 356.8(a) of the Department's regulations.

This notice serves as a reminder to parties subject to administrative protective order (“APO”) of their responsibility concerning the disposition of proprietary information disclosed under APO in accordance with 19 CFR § 351.305(a)(3). Timely written notification of the return or destruction of APO materials is hereby requested. Failure to comply with the regulations and terms of an APO is a sanctionable violation.

We are issuing and publishing these results in accordance with sections 751(a)(2)(B) and 777(i)(1) of the Tariff Act of 1930, as amended.

Dated: April 2, 2007.
Stephen J. Claeys,
Deputy Assistant Secretary for Import Administration.

[FR Doc. E7-6512 Filed 4-5-03; 8:45 am]

BILLING CODE 3510-DS-S